GENERAL SERVICES ADMINISTRATION

[Notice-MA-2016-07; Docket No. 2016-0002; Sequence No. 7]

Interagency Per Diem Working Group Meeting Concerning Boundaries To Set Continental United States Lodging and Meals and Incidental Per Diem Reimbursement Rates

AGENCY: Office of Government-wide Policy (OGP), General Services Administration (GSA).

ACTION: Notice of meeting.

SUMMARY: The Interagency Per Diem Working Group (IPDWG) is meeting to discuss studying the process of setting continental United States (CONUS) Non-Standard Area (NSA) boundaries for lodging maximum reimbursement rates and meals and incidental expense (M&IE) per diem reimbursement rates. The purpose of the study would be to recommend whether the NSA boundary-setting process should be replaced, changed, or maintained as is. Interested parties are invited to attend and provide comments.

DATES: The meeting will be held on Thursday, October 27, 2016, beginning at 10:00 a.m. Eastern Standard Time, ending no later than 3:00 p.m. Eastern Standard Time.

ADDRESSES: The meeting will be held in the GSA Auditorium, located at the GSA Central Office, 1800 F Street NW., Washington, DC, 20405.

FOR FURTHER INFORMATION CONTACT: Mr. Cy Greenidge, Office of Government-wide Policy, Office of Asset and Transportation Management, at 202-219-2349, or by email at travelpolicy@gsa.gov.

SUPPLEMENTARY INFORMATION: Pursuant to 5 U.S.C. 5702, the Administrator of General Services (GSA) sets the maximum lodging allowance and M&IE reimbursement rates for CONUS locations. Each year, GSA sets a standard maximum lodging allowance and M&IE reimbursement rates to cover the majority of CONUS. GSA also sets individual rates for each established NSA. The current methodology for setting rates was established by an independent Federal Advisory Committee in 2006. Another Federal Advisory Committee, chartered in 2013, validated the existing methodology. The latter Committee had a full briefing and discussed the overall per diem methodology, but did not specifically evaluate setting NSA boundaries.

Under the current methodology, NSA boundaries are set as a single county unless an exception is made. As of FY2017, 68 of the 346 CONUS NSAs, or approximately 20 percent, have an exception for one of three reasons: (1) Historically the boundary was set that way, (2) an agency requested that a one-county boundary be adjusted to meet official needs, or (3) the survey methodology required inclusion of multiple counties to have sufficient data to establish a rate.

Authority: 5 U.S.C. 5707.

Meeting Access: The meeting is open to the public. Those wishing to attend must do so in person. Teleconferencing will not be available.

Registration: Interested parties must register by October 21, 2016 via email at travelpolicy@gsa.gov. Please provide your full name to expedite entrance into the building. To gain entry into the Federal building where the meeting is being held, public attendees who are Federal employees should bring their Federal employee identification cards, and members of the general public should bring their driver's license or a government-issued photo identification card. Seating will be capped at 275 people on a first-come, first-served basis.

Procedures for Providing Comments: Written comments will be accepted until November 4, 2016, for consideration. Please email comments to travelpolicy@gsa.gov with attachments being no more than three pages. Any registrant who wishes to comment orally at the meeting will be limited to 10 minutes. All comments from the public, including attachments and other supporting materials received, are subject to public disclosure.

Dated: October 3, 2016.
Troy Cribb,
Associate Administrator, Office of Government-wide Policy.

[FR Doc. 2016-24263 Filed 10-6-16; 8:45 am]

BILLING CODE 6820-14-P